FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 15701N.

Name: Global Shipping & Travel Service, Inc.

Address: 172-25 Jamaica Avenue, Jamaica, NY 11432.

Date Revoked: January 14, 2001.

Reason: Failed to maintain a valid bond.

License Number: 14953N.

Name: Speedway Cargo Services, Inc.

Address: 147-55 175th Street, #102, Jamaica, NY 11434.

Date Revoked: August 27, 2001.

Reason: Surrendered license voluntarily.

Sandra L. Kusumoto,
Director Bureau of Consumer Complaints and Licensing.

[FR Doc. 01-23352 Filed 9-19-01; 8:45 am]

BILLING CODE 6730-01-P